DEPARTMENT OF TRANSPORTATION

Federal Aviation Administration

14 CFR Part 39

[Docket No. FAA-2024-2720; Project Identifier MCAI-2024-00129-T]

RIN 2120-AA64

Airworthiness Directives; Bombardier, Inc., Airplanes

AGENCY: Federal Aviation Administration (FAA), DOT.

ACTION: Notice of proposed rulemaking (NPRM).

SUMMARY: The FAA proposes to adopt a new airworthiness directive (AD) for certain Bombardier, Inc., Model BD-700-1A10 and BD-700-1A11 airplanes. This proposed AD was prompted by reports of engine-driven pump hydraulic pressure hoses for hydraulic systems number 1 and 2 chafing against the pylon in the aft equipment bay. This proposed AD would require an inspection of the engine-driven pump pressure hoses for any damage and minimum clearance between the engine-driven pump hydraulic pressure hose and case drain, suction pressure hose, and surrounding pylon structure; and corrective actions if necessary. The FAA is proposing this AD to address the unsafe condition on these products.

DATES: The FAA must receive comments on this proposed AD by February 20, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2720; or in person at Docket Operations between 9 a.m. and 5 p.m., Monday through Friday, except Federal holidays. The AD docket contains this NPRM, the mandatory continuing airworthiness information (MCAI), any comments received, and other information. The street address for Docket Operations is listed above.

Material Incorporated by Reference:

• For Bombardier material identified in this proposed AD, contact Bombardier Business Aircraft Customer Response Center, 400 Côte-Vertu Road West, Dorval, Québec H4S 1Y9, Canada; telephone 514-855-2999; email ac.yul@aero.bombardier.com; website bombardier.com.

• You may view this material at the FAA, Airworthiness Products Section, Operational Safety Branch, 2200 South 216th St., Des Moines, WA. For information on the availability of this material at the FAA, call 206-231-3195.

FOR FURTHER INFORMATION CONTACT: Joseph Catanzaro, Aviation Safety Engineer, FAA, 1600 Stewart Avenue, Suite 410, Westbury, NY 11590; telephone 516-228-7300; email 9-avs-nyaco-cos@faa.gov.

SUPPLEMENTARY INFORMATION:

Comments Invited

The FAA invites you to send any written relevant data, views, or arguments about this proposal. Send your comments to an address listed under the ADDRESSES section. Include “Docket No. FAA-2024-2720; Project Identifier MCAI-2024-00129-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Joseph Catanzaro, Aviation Safety Engineer, FAA, 1600 Stewart Avenue, Suite 410, Westbury, NY 11590; telephone 516-228-7300; email 9-avs-nyaco-cos@faa.gov. Any commentary that the FAA receives which is not specifically designated as CBI will be placed in the public docket for this rulemaking.

Background

Transport Canada, which is the aviation authority for Canada, has issued Transport Canada AD CF-2024-07, dated February 21, 2024 (Transport Canada AD CF-2024-07) (also referred to as the MCAI), to correct an unsafe condition on certain Bombardier, Inc., Model BD-700-1A10 and BD-700-1A11 airplanes. The MCAI states that there have been reports of engine-driven pump hydraulic pressure hoses for hydraulic systems number 1, left-hand side (LHS), and number 2, right-hand side (RHS), chafing against the pylon in the aft equipment bay.

The FAA is proposing this AD to address the chafing of the hydraulic systems engine-driven pump hoses against the pylon, which may lead to hydraulic system leaks and failures and result in the loss of the affected hydraulic system. Loss of both hydraulic systems number 1 and 2 would substantially reduce the airplane's functional capabilities. You may examine the MCAI in the AD docket at regulations.gov under Docket No. FAA-2024-2720.

Material Incorporated by Reference Under 1 CFR Part 51

The FAA reviewed the following material issued by Bombardier:

• Service Bulletin 700-29-5502, dated November 29, 2023.

• Service Bulletin 700-29-6011, dated November 29, 2023.

• Service Bulletin 700-29-6502, dated November 29, 2023.

This material describes procedures for a borescope inspection for routing of hydraulic systems number 1 (LHS) and number 2 (RHS) engine-driven pump pressure hoses for any damage (including fouling or chafing) and for minimum clearance between the engine-driven pump hydraulic pressure hose and case drain, suction pressure hose, and surrounding pylon structure. Corrective actions include replacing and adjusting the pressure hoses. These documents are distinct since they apply to different airplane models. This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and material referenced above. The FAA is issuing this NPRM after determining that the unsafe condition described previously is likely to exist or develop on other products of the same type design.

Proposed AD Requirements in This NPRM

This proposed AD would require accomplishing the actions specified in the material already described.

Clarification of Referenced Material

Paragraph 1.A, “Effectivity” of Bombardier Service Bulletin 700-29-5502, dated November 29, 2023, inadvertently identifies “Model BD-700-1A10 aircraft,” instead of “Model BD-700-1A11 aircraft.” Paragraph (g)(1) of this proposed AD would require replacing the incorrect text with the correct text.

Costs of Compliance

The FAA estimates that this AD, if adopted as proposed, would affect 36 airplanes of U.S. registry. The FAA estimates the following costs to comply with this proposed AD:

Estimated Costs for Required Actions
Labor cost | Parts cost | Cost per product | Cost on U.S. operators
2 work-hours × $85 per hour = $170 | $0 | $170 | $6,120

The FAA estimates the following costs to do any necessary on-condition actions that would be required based on the results of any required actions. The FAA has no way of determining the number of aircraft that might need these on-condition actions:

Estimated Costs of On-Condition Actions
Labor cost | Parts cost | Cost per product
2 work-hours × $85 per hour = $170 | $1,226 | $1,396

The FAA has included all known costs in its cost estimate. According to the manufacturer, however, some or all of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bombardier, Inc.: Docket No. FAA-2024-2720; Project Identifier MCAI-2024-00129-T.

(a) Comments Due Date

The FAA must receive comments on this airworthiness directive (AD) by February 20, 2025.

(b) Affected ADs

None.

(c) Applicability

This AD applies to Bombardier, Inc., Model BD-700-1A10 and BD-700-1A11 airplanes, certificated in any category, serial numbers (S/Ns) 60001 through 60076 inclusive, 60083, 60087, and 60089.

(d) Subject

Air Transport Association (ATA) of America Code 29, Hydraulic Power.

(e) Unsafe Condition

This AD was prompted by reports of engine-driven pump hydraulic pressure hoses for hydraulic systems number 1 and 2 chafing against the pylon in the aft equipment bay. The FAA is issuing this AD to address the chafing of the hydraulic systems engine-driven pump hydraulic pressure hoses for the hydraulic system against the pylon, which may lead to hydraulic system leaks and failures and result in the loss of the affected hydraulic system. Loss of both hydraulic systems number 1 and 2 would substantially reduce the airplane's functional capabilities.

(f) Compliance

Comply with this AD within the compliance times specified, unless already done.

(g) Inspection of Engine-Driven Pump Hydraulic Hoses

Within 500 flight hours or 18 months, whichever occurs first after the effective date of this AD, do a borescope inspection of the routing of hydraulic systems number 1, left-hand side (LHS), and number 2, right-hand side (RHS), engine-driven pump pressure hoses over the length of the hoses for any damage and for minimum clearance between the engine-driven pump hydraulic pressure hose and case drain, suction pressure hose, and surrounding pylon structure, in accordance with Section 2.B. of the Accomplishment Instructions of the applicable service information identified in paragraph (g)(1) through (3) of this AD.

(1) For airplanes identified in Bombardier Service Bulletin 700-29-5502, dated November 29, 2023: Bombardier Service Bulletin 700-29-5502, dated November 29, 2023. Where paragraph 1.A. of Bombardier Service Bulletin 700-29-5502, dated November 29, 2023, identifies “Model BD-700-1A10 aircraft,” this AD requires replacing that text with “Model BD-700-1A11 aircraft.”

(2) For airplanes identified in Bombardier Service Bulletin 700-29-6011, dated November 29, 2023: Bombardier Service Bulletin 700-29-6011, dated November 29, 2023.

(3) For airplanes identified in Bombardier Service Bulletin 700-29-6502, dated November 29, 2023: Bombardier Service Bulletin 700-29-6502, dated November 29, 2023.

(h) Corrective Actions

(1) If clearance is found to be less than 0.500 inch (12.70 mm) during the inspection required by paragraph (g) of this AD: Before further flight, adjust the applicable hose(s) to obtain minimum clearance between the engine-driven pump hydraulic pressure hose and case drain, suction pressure hose, and surrounding pylon structure, in accordance with Section 2.C. of the Accomplishment Instructions of the applicable service information identified in paragraphs (g)(1) through (3) of this AD.

(2) If any damage (including fouling or chafing) is found during the inspection required by paragraph (g) of this AD: Before further flight, replace all damaged pressure hoses, in accordance with Section 2.D. of the Accomplishment Instructions of the applicable service information identified in paragraphs (g)(1) through (3) of this AD.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier, Inc.'s Transport Canada Design Approval Organization (DAO). If approved by the DAO, the approval must include the DAO-authorized signature.

(j) Additional Information

For more information about this AD, contact Joseph Catanzaro, Aviation Safety Engineer, FAA, 1600 Stewart Avenue, Suite 410, Westbury, NY 11590; telephone 516-228-7300; email 9-avs-nyaco-cos@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) Bombardier Service Bulletin 700-29-5502, dated November 29, 2023.

(ii) Bombardier Service Bulletin 700-29-6011, dated November 29, 2023.

(iii) Bombardier Service Bulletin 700-29-6502, dated November 29, 2023.

(3) For Bombardier material identified in this AD, contact Bombardier Business Aircraft Customer Response Center, 400 Côte-Vertu Road West, Dorval, Québec H4S 1Y9, Canada; telephone 514-855-2999; email ac.yul@aero.bombardier.com; website bombardier.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on December 30, 2024.
Steven W. Thompson,
Acting Deputy Director, Compliance & Airworthiness Division, Aircraft Certification Service.

[FR Doc. 2024-31624 Filed 1-3-25; 8:45 am]

BILLING CODE 4910-13-P